DEPARTMENT OF AGRICULTURE

Agricultural Research Service

Notice of Intent To Request an Extension of a Currently Approved Information Collection

AGENCY: Agricultural Research Service, USDA.

ACTION: Notice and request for comments.

SUMMARY: In accordance with the Paperwork Reduction Act of 1995 (Pub. L. 104-13) and Office of Management and Budget (OMB) regulations at 5 CFR Part 1320 (60 FR 44978, August 29, 1995), this notice announces the Agricultural Research Service's (ARS's) intention to request an extension of a currently approved information collection, Information Collection For Document Delivery Services at the National Agricultural Library (NAL), that expires March 31, 2009.

DATES: Comments must be submitted on or before January 14, 2009.

ADDRESSES: Send comments to: ARS-NAL, Collection Services Branch, 10301 Baltimore Ave., Room 300, Beltsville, Maryland 20705-2351.

FOR FURTHER INFORMATION CONTACT: Wayne Thompson, Access Services Librarian, telephone: 301-504-6503; fax: 301-504-7593; e-mail: access@nal.usda.gov.

SUPPLEMENTARY INFORMATION: Title: Information Collection For Document Delivery Services.

OMB Number: 0518-0027.

Expiration Date of Approval: March 31, 2009.

Type of Request: To extend a currently approved information collection.

Abstract: In its role as both a preeminent agricultural research library and a National Library of the United States, NAL (part of the Department of Agriculture's Agricultural Research Service) provides loans and photocopies of materials from its collections to libraries and other institutions and organizations. NAL follows applicable copyright laws and interlibrary loan guidelines, standards, codes, and practices when providing loans and photocopies and charges a fee, if applicable, for this service. To request a loan or photocopy, institutions must provide a written request to NAL using either NAL's Web-based online request system or an interlibrary loan request system such as the Online Computer Library Center (OCLC) or the National Library of Medicine's Docline. Information provided in these requests include the name, address, and telephone number of the party requesting the material, and depending on the method of delivery of the material to the party, may include either a fax number, e-mail address, or Ariel IP address. The requestor must also provide a statement acknowledging copyright compliance, bibliographic information for the material they are requesting, and the maximum dollar amount they are willing to pay for the material. The collected information is used to deliver the material to the requesting party, bill for and track payment of applicable fees, monitor the return to NAL of loaned material, identify and locate the requested material in NAL collections, and determine whether the requesting party consents to the fees charged by NAL.

Estimate of Burden: Average 1.00 minute per response.

Description of Respondents: Respondents to the collection of information are those libraries, institutions, or organizations that request interlibrary loans or copies of material in the NAL collections. Each respondent must furnish the information for each loan or copying request.

Estimated Number of Respondents: 1525.

Frequency of Responses: Average 11 per respondent.

Estimated Total Annual Burden on Respondents: 280 hours.

Comments: Comments are invited on (a) Whether the proposed collection of information is necessary for the proper performance of the functions of the agency, including whether the information will have a practical utility; (b) the accuracy of the agency's estimate of the burden of the proposed collection of information including the validity of the methodology and assumptions used; (c) ways to enhance the quality, utility, and clarity of the information to be collected; and (d) ways to minimize the burden of the collection of information on those who are to respond, such as through the use of appropriate automated, electronic, mechanical, or other technological collection techniques. Comments may be sent to Wayne Thompson at the address listed above within 65 days after date of publication. All responses to this notice will be summarized and included in the request for OMB approval. All comments will also become a matter of public record.

Dated: October 22, 2008.
Antoinette A. Betschart,
Associate Administrator, ARS.

[FR Doc. E8-26662 Filed 11-7-08; 8:45 am]

BILLING CODE 3410-03-P